DEPARTMENT OF STATE

[Public Notice: 11597]

In the Matter of the Amendment of the Designation of ISIL Khorasan (and Other Aliases) as a Specially Designated Global Terrorist

Based upon a review of the administrative record assembled in this matter, and in consultation with the Attorney General and the Secretary of the Treasury, I have concluded that there is a sufficient factual basis to find that ISIL Khorasan, uses the additional alias The Islamic State of Iraq and ash-Sham—Khorasan Province, also known as The Islamic State of Iraq and Syria—Khorasan, Islamic State of Iraq and Levant in Khorasan Province, also known as Islamic State Khurasan, also known as ISISK, also known as ISIS-K, also known as IS-Khorasan.

Therefore, pursuant to Section 1(b) of E.O. 13224, I hereby amend the designation of ISIL Khorasan as a Specially Designated Global Terrorist to include the following new aliases: The Islamic State of Iraq and ash-Sham—Khorasan Province, The Islamic State of Iraq and Syria—Khorasan, Islamic State of Iraq and Levant in Khorasan Province, Islamic State Khurasan, ISISK, ISIS-K, and IS-Khorasan.

This notice shall be published in the Federal Register.

Dated: August 9, 2021.
Antony J. Blinken,
Secretary of State.

[FR Doc. 2021-26096 Filed 11-30-21; 8:45 am]

BILLING CODE 4710-AD-P